DEPARTMENT OF TRANSPORTATION

Federal Aviation Administration

Public Notice for Waiver of Aeronautical Land-Use Assurance; Southern Illinois Airport, Carbondale-Murphysboro, IL

AGENCY: Federal Aviation Administration, DOT.

ACTION: Notice of intent of waiver with respect to land.

SUMMARY: The Federal Aviation Administration (FAA) is giving notice that 1.29 + / − acres (Parcel P-1R) of the airport property located at Southern Illinois Airport, Carbondale-Murphysboro, Illinois, will be released. This acreage is adjacent to the Airport Entrance Road and in close proximity to Airport Road and Fox Farm Road. It is in the southern part of Tract P-1, which is 11.024 acres.

Tract P-1 was originally acquired in fee on August 20, 1975, with partial federal funding of Grant 7-17-00077-02. The proposed sale of will facilitate the construction of a centralized 911 emergency dispatch center, which will serve all of Jackson County. It will combine the current emergency dispatch functions of the cities of Carbondale and Murphysboro, Jackson County and Southern Illinois University. This center will position first responders and mutual aid providers near the airport for the needs of the airport.

The land use of the property is currently agricultural, which provides minimal income to the airport. This one-time sale will generate income for airport improvement purposes and build a better rapport with the surrounding communities and their officials.

The future use of this release will be required to comply with part 77 surfaces, and in conformity with FAA Deed Restrictions as required in Appendix 3 of PPM 5190.6.

The Exhibit ‘A’ Property Line Map (Exhibit 1) and the Airport Layout Plan (Exhibit 2) depicts the exchange.

In accordance with section 47107(h) of title 49, United States Code, this notice is required to be published in the Federal Register 30 days before modifying the land-use assurance that requires that property to be used for an aeronautical purpose.

DATES: Comments must be received on or before January 17, 2006.

FOR FURTHER INFORMATION CONTACT: E. Lindsay Butler, Program Manager, 2300 East Devon Avenue, Des Plaines, IL 60018. Telephone Number 847-294-7723/ FAX Number 847-294-7046. Documents reflecting this FAA action may be reviewed at this same location or at the Southern Illinois Airport, Carbondale-Murphysboro, Illinois.

SUPPLEMENTARY INFORMATION: This notice announces that the FAA intends to authorize the exchange of the subject airport property at Southern Illinois Airport, Carbondale-Murphysboro, Illinois. Approval does not constitute a commitment by the FAA to financially assist in exchange of the subject airport property nor a determination that all measures covered by the program are eligible for grant-aid-funding from the FAA. If appropriate, the disposition of proceeds from the exchange of the airport property will be in accordance FAA's Policy and Procedures Concerning the Use of Airport Revenue, published in the Federal Register on February 16, 1999.

Issued in Des Plaines, Illinois on December 5, 2005.
Larry H. Ladendorf,
Acting Manager, Chicago Airports District Office, FAA, Great Lakes Region.

[FR Doc. 05-24127 Filed 12-15-05; 8:45 am]

BILLING CODE 4910-13-M